DEPARTMENT OF ENERGY

Federal Energy Regulatory Commission

[Project No. 12569-001]

Public Utility District No. 1 of Okanogan County; Notice of Soliciting Additional Study Requests

October 1, 2008.

Take notice that the following hydroelectric application has been filed with the Commission and is available for public inspection.

a. Type of Application: Major License.

b. Project No.: P-12569-001.

c. Date filed: August 22, 2008.

d. Applicant: Public Utility District No. 1 of Okanogan County.

e. Name of Project: Enloe Hydroelectric Project.

f. Location: On the Similkameen River, near the Town of Oroville, Okanogan County, Washington. The project occupies about 35.47 acres of federal lands under the jurisdiction of the U.S. Bureau of Land Management.

g. Filed Pursuant to: Federal Power Act 16 U.S.C. 791(a)—825(r).

h. Applicant Contact: John R. Grubich, General Manager, Public Utility District No. 1 of Okanogan County, P.O. Box 912, Okanogan, Washington 98840, (509) 422-8485.

i. FERC Contact: Dianne Rodman, 888 First Street, NE., Room 6B-02, Washington, DC 20426, (202) 502-6077, dianne.rodman@ferc.gov., and Kim A. Nguyen, 888 First Street, NE., Room 63-11, Washington, DC 20426, (202) 502-6105, kim.nguyen@ferc.gov.

j. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission, and serve a copy of the request on the applicant.

k. Deadline for filing additional study requests: October 31, 2008.

All documents (original and eight copies) should be filed with: Kimberly D. Bose, Secretary, Federal Energy Regulatory Commission, 888 First Street, NE., Washington, DC 20426.

Additional study requests may be filed electronically via the Internet in lieu of paper. The Commission strongly encourages electronic filings. See 18 CFR 385.2001(a)(1)(iii) and the instructions on the Commission's web site (http://www.ferc.gov) under the “e-Filing” link.

l. The application is not ready for environmental analysis at this time.

m. The Enloe Project would consist of: (1) An existing 315-foot-long and 54-foot-high concrete gravity arch dam with an integrated 276-foot-long central overflow spillway with 5-foot-high flashboards; (2) an existing 76.6-acre reservoir (narrow channel of the Similkameen River) with a storage capacity of 775 acre-feet at 1049.3 feet mean sea level; (3) an 190-foot-long intake canal on the east abutment of the dam diverting flows into the penstock intake structure; (4) a 35-foot-long by 30-foot-wide penstock intake structure; (5) two above-ground 8.5-foot-diameter steel penstocks carrying flows from the intake to the powerhouse; (6) a powerhouse containing two vertical Kaplan turbine/generator units with a total installed capacity of 9.0 megawatts; (7) a 180-foot-long tailrace channel that would convey flows from the powerhouse to the Similkameen River, downstream of the Similkameen Falls; (8) a new substation adjacent to the powerhouse; (9) a new 100-foot-long, 13.2-kilovolt primary transmission line from the substation connecting to an existing distribution line; (10) new and upgraded access roads, and (11) appurtenant facilities.

The project is estimated to generate an average of 54 gigawatthours annually.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Nathaniel J. Davis, Sr.,
Deputy Secretary.

[FR Doc. E8-23621 Filed 10-6-08; 8:45 am]

BILLING CODE 6717-01-P